SELECTIVE SERVICE SYSTEM

Privacy Act of 1974; Publication of Notice of Systems of Records

AGENCY: Selective Service System.

ACTION: Notice: publication of systems of records.

SUMMARY: The purpose of this notice is to meet the requirement of the Privacy Act of 1974 regarding the annual publication of the agency's notice of systems of records. The complete text of all Selective Service System notices appears below. Authority: 5 U.S.C. 552a.

Systems of Records

SSS-2 General Files (Registrant Processing)

SSS-3 Reconciliation Service Records

SSS-4 Registrant Information Bank (RIB) Records

SSS-5 Registrant Processing Records

SSS-6 Reserve and National Guard Personnel Records

SSS-7 Uncompensated Personnel Records

SSS-8 Suspected Violator Inventory System

SSS-9 Master Pay Record

SSS-10 Registrant Registration Records

SSS-2

System name:

General Files—(Registrant Processing) SSS.

Security classification:

None.

System location:

National Headquarters, Selective Service System, 1515 Wilson Boulevard, Arlington, VA 22209-2425.

Categories of individuals covered by the system:

Registrants of the Selective Service System and other individuals and organizations.

Categories of records in the system:

Contains current and previous correspondence with individual registrants, private individuals and Government agencies, requesting information or resolution of specific problems related to registrant processing or agency operations.

Authority for maintenance of the system:

Section 10(b)(3), Military Selective Service Act (50 U.S.C. App. 460(b)(3)).

ROUTINE USES OF RECORDS MAINTAINED IN THE SYSTEM, INCLUDING CATEGORIES OF USERS AND THE PURPOSES OF SUCH USES:

Department of Justice—Refer to reports received as to possible violations of the Military Selective Service Act.

Federal Bureau of Investigation—Refer reports received as to possible violations of the Military Selective Service Act.

Department of Defense—Exchange of information respecting status of individuals subject to the provisions of the Military Selective Service Act.

Immigration and Naturalization Service—Response to inquiries concerning aliens.

Department of Health and Human Services—for locations of parents pursuant to the Child Support Enforcement Act (42 U.S.C. 651 et seq.)

POLICIES AND PRACTICES FOR STORING, RETRIEVING, ACCESSING RETAINING, AND DISPOSING OF RECORDS IN THE SYSTEM:

STORAGE:

Paper copies maintained in routine filing equipment.

RETRIEVABILITY:

Records are indexed alphabetically by last name.

SAFEGUARDS:

Measures that have been taken to prevent unauthorized disclosures of records are:

a. Records maintained by authorized personnel only, who have been trained in the rules and regulations concerning disclosures of information; offices are locked when authorized personnel are not on duty.

b. Periodic security checks and other emergency planning.

c. Records transferred for storage are boxed and taped; records in transit for temporary custody of another office are sealed. Records eligible for destruction are destroyed by maceration, shredding or burning.

RETENTION AND DISPOSAL:

Hold file intact for five years from date of latest correspondence.

SYSTEM MANAGER(S) AND ADDRESS:

Director of Selective Service, 1515 Wilson Boulevard, Arlington, VA 22209-2425, Attn: Records Manager.

RECORD ACCESS PROCEDURES:

An individual desiring to obtain information on the procedures for gaining access to and contesting records may write to: Director of Selective Service, Selective Service System, 1515 Wilson Boulevard, Arlington, VA 22209-2425, Attn: Records Manager.

It is necessary to furnish the following information in order to identify the individual whose records are requested:

a. Full name of the individual.

b. Date of birth.

c. Selective Service Number (if available).

d. Mailing address to which the reply should be mailed.

CONTESTING RECORD PROCEDURES:

See Record Access Procedures, above.

RECORD SOURCE CATEGORIES:

Individual registrants and private individuals and organizations, Members of the Congress acting on behalf of constituents.

SYSTEMS EXEMPTED FOR CERTAIN PROVISIONS OF THE ACT:

None.

SSS-3

System name:

Reconciliation Service Records—SSS.

Security classification:

None.

System location:

National Headquarters, Selective Service System, 1515 Wilson Boulevard, Arlington, VA 22209-2425.

Categories of individuals covered by the system:

Vietnam era draft evaders and military deserters (whose surnames begin with A through R) who have qualified for a period of alternate service as a condition for reconciliation under Presidential Proclamation 4313, signed September 16, 1974.

Categories of records in the system:

Registration Card: Individual's name, address, telephone number, personal description, date of birth, Social Security Account Number, former military service, date of registration, reconciliation service required, date of reconciliation service started and terminated, total reconciliation service, individual's signature.

Authority for maintenance of the system:

Presidential Proc. 4313; E.O. 11804; 5 U.S.C. 553; 50 U.S.C. App. 460(b)(3).

ROUTINE USES OF RECORDS MAINTAINED IN THE SYSTEM, INCLUDING CATEGORIES OF USERS AND THE PURPOSES OF SUCH USES:

Referral to the Department of Justice for appropriate action in cases involving unsatisfactory participation.

Referral to the appropriate military referring authority, upon request, in cases involving the updating of military discharges.

Referral to the Presidential Clemency Board, upon request, in cases necessitating additional review.

Referral to Office of Management and Budget, upon request, in cases undergoing investigative review in conjunction with specific functions of these agencies.

Exchange of information with Reconciliation Services employers regarding the placement, supervision of and performance of Reconciliation Service by returnees who have agreed to perform such service.

POLICIES AND PRACTICES FOR STORING, RETRIEVING, ACCESSING RETAINING, AND DISPOSING OF RECORDS IN THE SYSTEM:

STORAGE:

All registration cards and microfiche of registration cards are stored in either metal or wood filing cabinets.

RETRIEVABILITY:

The system is alphabetically indexed by last name.

SAFEGUARDS:

Measures that have been taken to prevent unauthorized disclosures of records are:

a. Records maintained by authorized personnel only, who have been trained in the rules and regulations concerning disclosures of information; offices are locked when authorized personnel are not on duty.

b. Periodic security checks and other emergency planning.

c. Records transferred for storage are boxed and taped; records in transit for temporary custody of another office are sealed. Records eligible for destruction are destroyed by maceration, shredding or burning.

RETENTION AND DISPOSAL:

Registration Cards or microfilm thereof will be retained until the enrollee reaches 85 years of age.

SYSTEM MANAGER(S) AND ADDRESS:

Director of Selective Service, 1515 Wilson Boulevard, Arlington, VA 22209-2425, Attn: Records Manager.

RECORD ACCESS PROCEDURES:

An individual desiring to obtain information on the procedures for gaining access to and contesting records may write to: Director of Selective Service, Selective Service System, 1515 Wilson Boulevard, Arlington, VA 22209-2425, Attn: Records Manager.

CONTESTING RECORD PROCEDURES:

See Record Access Procedures, above.

RECORD SOURCE CATEGORIES:

Sources of records in the system are primarily established by the individual at the time and place of enrollment, based on oral and written information given by the enrollee. Other sources of information include the Report of Separation From Active Duty (DD Form 214), referral documents from the referring authority and information provided by an enrollee's employer.

SYSTEMS EXEMPTED FOR CERTAIN PROVISIONS OF THE ACT:

None.

SSS-4

System name:

Registrant Information Bank (RIB) Records—SSS

Security classification:

None.

System location:

Data Management Center/Joint Computer Center, Great Lakes, Illinois 60088.

Categories of individuals covered by the system:

Registrants of the Selective Service System after 1979.

Categories of records in the system:

The Registrant Information Bank (RIB) is an automated data processing system which stores information concerning registration, classification, examination, assignment and induction of Selective Service registrants.

Authority for maintenance of the system:

Section 10(b)(3) of the Military Selective Service Act (50 U.S.C. App. 460(b)(3)).

ROUTINE USES OF RECORDS MAINTAINED IN THE SYSTEM, INCLUDING CATEGORIES OF USERS AND THE PURPOSES OF SUCH USES:

Department of Defense—exchange of information concerning registration classification, enlistment, examination and induction of individuals, and for recruiting (prior to April 1, 1982 only on request of the registrant).

Alternative service employers—for exchange of information with employers regarding a registrant who is a conscientious objector for the purpose of placement in and supervision of performance of alternative service in lieu of induction into the military service.

Department of Justice—for review and processing of suspected violations of the Military Selective Service Act, or for perjury, and for defense of a civil action arising from administrative processing under such Act.

Federal Bureau of Investigation—for location of an individual when suspected of violation of the Military Selective Service Act.

Immigration and Naturalization Service—to provide information for use in determining an individual's eligibility for re-entry into the United States and United States citizenship.

Department of State—to provide information for use in determining an individual's eligibility for possible entry into the United States and United States citizenship.

Office of Veterans' Reemployment Rights, United States Department of Labor—to assist veterans in need of information concerning reemployment rights.

Department of Health and Human Services—for locations of parents pursuant to the Child Support Enforcement Act (42 U.S.C. 651 et seq.) and for determining the individual's proper Social Security Account Number when there appears to be a discrepancy.

Bureau of the Census—for the purposes of planning or carrying out a census or survey or related activity pursuant to the provisions of Title 13.

State and local government agencies—to provide information which may constitute evidence of a violation of State or local law, for law enforcement purposes.

General Public—Registrant's Name, Selective Service Number, Date of Birth and Classification.

POLICIES AND PRACTICES FOR STORING, RETRIEVING, ACCESSING, RETAINING, AND DISPOSING OF RECORDS IN THE SYSTEM: STORAGE:

The records are maintained on tape, disk, computer printouts and microfilm.

RETRIEVABILITY:

The system is indexed primarily by Selective Service Number.

SAFEGUARDS:

a. On-line access to RIB from terminals is available to authorized personnel, and is controlled by User Identification and password. Batch access controlled via standard data processing software and hardware techniques.

b. Records are handled by authorized personnel only, who have been trained in the rules and regulations concerning disclosures of information; offices are locked when authorized personnel are not on duty and protected by an electronic security access system at all times.

c. Premises are locked and patrolled when authorized personnel are not on duty.

d. Periodic security checks and other emergency planning.

RETENTION AND DISPOSAL:

When eligible for disposal, the computer tapes are erased. The records stored in the Registrant Information Bank (RIB) are retained until the registrant reaches 85 years of age.

The computer printouts are distributed to National Headquarters and destroyed when they have served their purpose by maceration, shredding, or burning. Computer printouts used at the Data Management Center are destroyed by maceration after they have served their purpose or upon records appraisal action.

SYSTEM MANAGER(S) AND ADDRESS:

Director of Selective Service, 1515 Wilson Boulevard, Arlington, VA 22209-2425, Attn: Records Manager.

RECORD ACCESS PROCEDURES:

An individual desiring to obtain information on the procedures for gaining access to and contesting records may write to: Director of Selective Service, Selective Service System, 1515 Wilson Boulevard, Arlington, VA 22209-2425, Attn: Records Manager.

It is necessary to furnish the following information in order to identify the individual whose records are requested:

a. Full name of the individual.

b. Date of birth.

c. Selective Service Number (if known), Social Security Account Number.

d. Mailing address to which the reply should be mailed.

CONTESTING RECORD PROCEDURES:

See Record Access Procedures, above.

RECORD SOURCE CATEGORIES:

Information submitted by the registrant, Department of Education or Department of Defense create the input information recorded in the

SSS—Registrant Information Bank (RIB) Records.

SYSTEMS EXEMPTED FOR CERTAIN PROVISIONS OF THE ACT:

None.

SSS-5

System name:

Registrant Processing Records—SSS.

Security classification:

None.

System location:

Records are stored in the Federal Records Center serving the State in which the registrant resided at the time of registration with the Selective Service System.

Categories of individuals covered by the system:

Registrants of the Selective Service System before 1976.

Categories of records in the system:

Individual Processing Records:

a. Registration Card—a locator card identifying the registrant.

b. Classification Record—a listing of the classes in which the registrant was placed and the dates of the classifications.

Authority for maintenance of the system:

Sections 3, 10(b)(3) and 15(b) of the Military Selective Service Act (50 U.S.C. App. 453, 460(b)(3), 465(b)).

ROUTINE USES OF RECORDS MAINTAINED IN THE SYSTEM, INCLUDING CATEGORIES OF USERS AND THE PURPOSES OF SUCH USES:

Department of Defense—for exchange of information concerning registration, classification, enlistment, examination and induction of individuals.

Alternative service employers—for exchange of information with employers regarding a registrant who is a conscientious objector for the purpose of placement in and supervision of performance of alternative service in lieu of induction into the military service.

Department of Justice—for review and processing of suspected violations of the Military Selective Service Act, or for perjury, and for defense of a civil action arising from administrative processing under such Act.

Federal Bureau of Investigation—for location of an individual when suspected of violation of the Military Selective Service Act.

Immigration and Naturalization Service—to provide information for use in determining an individual's eligibility for re-entry into the United States.

Department of State—for determination of an alien's eligibility for possible re-entry into the United States and United States citizenship.

Office of Veterans' Reemployment Rights, United States Department of Labor—to assist veterans in need of information concerning reemployment rights.

Department of Health and Human Services—for locations of parents pursuant to the Child Support Enforcement Act (42 U.S.C. 651 et seq.) And for determining the individual's proper Social Security Account Number when there appears to be a discrepancy.

State and local government agencies—to provide information which may constitute evidence of a violation of State or local law, for law enforcement purposes.

General Public—Registrant's Name, Selective Service Number, Date of Birth and Classification.

POLICIES AND PRACTICES FOR STORING, RETRIEVING, ACCESSING RETAINING, AND DISPOSING OF RECORDS IN THE SYSTEM:

STORAGE:

Records are maintained on manually prepared forms and correspondence files.

RETRIEVABILITY:

Records are indexed by name (within local board) and Selective Service Number.

SAFEGUARDS:

Measures that have been taken to prevent unauthorized disclosures of records are:

a. Records maintained by authorized personnel only, who have been trained in the rules and regulations concerning disclosures of information; offices are locked when authorized personnel are not on duty.

b. Periodic security checks and other emergency planning.

c. Records transferred for storage are boxed and taped; records in transit for temporary custody of another office are sealed. Records eligible for destruction are destroyed by maceration, shredding or burning.

d. Only photostatic copies of records copies of records are withdrawn from Federal Records Centers. Withdrawals are requested by authorized personnel only.

RETENTION AND DISPOSAL:

Individual Processing Records:

1. Registration Card—Retained until registrant reaches age 85, records active to age 35.

2. Classification Record—Retained until registrant reaches age 85, record active to age 35.

SYSTEM MANAGER(S) AND ADDRESS:

Director of Selective Service, 1515 Wilson Boulevard, Arlington, VA 22209-2425, Attn: Records Manager.

RECORD ACCESS PROCEDURES:

An individual desiring to obtain information on the procedures for gaining access to and contesting records may write to: Director of Selective Service, Selective Service System, 1515 Wilson Boulevard, Arlington, VA 22209-2425, Attn: Records Manager.

It is necessary to furnish the following information in order to identify the individual whose records are requested:

a. Full name of the individual.

b. Date of birth.

c. Selective Service Number, Order/Serial Number, or date of birth and address at the time of registration if Selective Service Number or Order/Serial Number is not known.

d. Mailing address to which the reply should be mailed.

CONTESTING RECORD PROCEDURES:

See Record Access Procedures, above.

RECORD SOURCE CATEGORIES:

Information contained in the Registrant Processing Records System is obtained from the individual and supporting documents from other persons, federal, state and local government agencies and institutions.

SYSTEMS EXEMPTED FOR CERTAIN PROVISIONS OF THE ACT:

None.

SSS-6

System name:

Reserve and National Guard Personnel Records—SSS

Security classification:

None.

System location:

National Headquarters, Selective Service System, 1515 Wilson Boulevard, Arlington, VA 22209-2425.

Categories of individuals covered by the system:

Officers and Warrant Officers of the Reserve and National Guard currently assigned to the Selective Service System, and Officers and Warrant Officers formerly so assigned.

Categories of records in the system:

The records contain information relating to selection, placement and utilization of military personnel, such as name, rank, Social Security Account Number, date of birth, physical profile, residence and business, addresses, and telephone numbers. Information is also recorded on unit of assignment, occupational codes and data pertaining to training, cost factors, efficiency ratings and mobilization assignments and duties, and other information relating to the status of the member.

Authority for maintenance of the system:

Section 10(b)(2) of the Military Selective Service Act (50 U.S.C. App. 460(b)(2)).

ROUTINE USES OF RECORDS MAINTAINED IN THE SYSTEM, INCLUDING CATEGORIES OF USERS AND THE PURPOSES OF SUCH USES:

To provide information to the individual member's branch of the Armed Forces as required in connection with their assignment to the Selective Service System.

POLICIES AND PRACTICES FOR STORING, RETRIEVING, ACCESSING RETAINING, AND DISPOSING OF RECORDS IN THE SYSTEM: STORAGE:

Records are maintained in file folders and on magnetic tape or disk.

RETRIEVABILITY:

Records are indexed by name and Service Number.

SAFEGUARDS:

Records are maintained in lockable file containers. Measures that have been taken to prevent unauthorized disclosures of records are:

a. Use of the records or any information contained therein is limited to Selective Service System employees or Reserve Forces Members whose official duties require access.

b. Records maintained by authorized personnel only, who have been trained in the rules and regulations concerning disclosures of information; offices are locked when authorized personnel are not on duty.

c. Periodic security checks and other emergency planning.

d. Records transferred for storage are boxed and taped; records in transit for temporary custody of another office are sealed. Records eligible for destruction are destroyed by maceration, shredding or burning.

SYSTEM MANAGER(S) AND ADDRESS:

Director of Selective Service, 1515 Wilson Boulevard, Arlington, VA 22209-2425, Attn: Records Manager.

RETENTION AND DISPOSAL:

Personnel records for Selective Service Reserve Forces are retained for one (1) year after separation and then disposed of in accordance with procedures provided by each Branch of Service.

RECORD ACCESS PROCEDURES:

SSS Reserve Forces Members or former members who wish to gain access to their records should make their request in writing addressed to: Director of Selective Service, Selective Service System, 1515 Wilson Boulevard, Arlington, VA 22209-2425, Attn: Military Personnel.

It is necessary to include the Member's full name, rank, branch of service, address, and Social Security Account Number.

CONTESTING RECORD PROCEDURES:

See Record Access Procedures, above.

RECORD SOURCE CATEGORIES:

Information in this system is obtained directly from the individual to whom it applies or is derived from information supplied or is provided by the individual Branch of the Armed Forces.

SYSTEMS EXEMPTED FOR CERTAIN PROVISIONS OF THE ACT:

None.

SSS-7

System name:

Uncompensated Personnel Records—SSS.

Security classification:

None.

System location:

National Headquarters, Selective Service System, 1515 Wilson Boulevard, Arlington, VA 22209-2425.

Categories of individuals covered by the system:

Currently appointed uncompensated local board and appeal board members, other persons appointed in advisory or administrative capacity, and former appointees in an uncompensated capacity.

Categories of records in the system:

The records contain information relating to selection, appointment and separation of appointees, such as name, date of birth, mailing address, residence and organization location, position title, minority group code, sex, weight, etc. length of service and occupational title.

Authority for maintenance of the system:

Section 10(b)(3) of the Military Selective Service Act (50 U.S.C. App. 460(b)(3)).

ROUTINE USES OF RECORDS MAINTAINED IN THE SYSTEM, INCLUDING CATEGORIES OF USERS AND THE PURPOSES OF SUCH USES:

Department of Justice—for exchange of information when required in connection with processing of alleged violations of the Military Selective Service Act.

POLICIES AND PRACTICES FOR STORING, RETRIEVING, ACCESSING RETAINING, AND DISPOSING OF RECORDS IN THE SYSTEM: STORAGE:

Records are maintained in file folders and on magnetic tape or disk.

RETRIEVABILITY:

Records are indexed by name of individual record identification number and location.

SAFEGUARDS:

Records are maintained in lockable file containers. Measures that have been taken to prevent unauthorized disclosures of records are:

a. Use of the records or any information contained therein is limited to Selective Service System employees whose official duties require such access.

b. Records maintained by authorized personnel only, who have been trained in the rules and regulations concerning disclosures of information; offices are locked when authorized personnel are not on duty.

c. Periodic security checks and other emergency planning.

d. Records transferred for storage are boxed and taped; records in transit for temporary custody of another office are sealed. Records eligible for destruction are destroyed by maceration, shredding or burning.

RETENTION AND DISPOSAL:

Personnel record for uncompensated personnel are maintained for one (1) year after separation at the servicing personnel office.

SYSTEM MANAGER(S) AND ADDRESS:

Director of Selective Service, 1515 Wilson Boulevard, Arlington, VA 22209-2425, Attn: Records Manager.

RECORD ACCESS PROCEDURES:

Appointees who wish to gain access to their records should make requests in writing, including their full name, address (state in which appointed), date of birth and Social Security Account Number for former appointees, or record Identification Number for current appointees. Requests should be addressed to: Director of Selective Service, Selective Service System, 1515 Wilson Boulevard, Arlington, VA 22209-2425, Attn: Civilian Personnel (Uncompensated).

CONTESTING RECORD PROCEDURES:

See Record Access Procedures, above.

RECORD SOURCE CATEGORIES:

Information in this system is obtained directly from the individual or is derived from information he/she has supplied or is provided by the agency official with authority to appoint the individual.

SYSTEMS EXEMPTED FOR CERTAIN PROVISIONS OF THE ACT:

None.

SSS-8

System name:

Suspected Violator Inventory System—SSS.

Security classification:

None.

System location:

Data Management Center/Joint Computer Center, Great Lakes, Illinois 60088.

Categories of individuals covered by the system:

Alleged violators of the Military Selective Service Act (50 U.S.C. App. 451 et seq.).

Categories of records in the system:

Automated records created by matches between records contained in SSS-10 and other computer files, and other records related to non-registrants. Each record may contain the name, address, Selective Service Number (if any), Social Security Account Number (if any), date of birth, status, and disposition data relating to possible violations of the Military Selective Service Act.

Authority for maintenance of the system:

Section 10(b)(3) of the Military Selective Service Act (50 U.S.C. App. 460(b)(3)).

ROUTINE USES OF RECORDS MAINTAINED IN THE SYSTEM, INCLUDING CATEGORIES OF USERS AND THE PURPOSES OF SUCH USES:

The names of individuals identified as alleged violators of the Military Selective Service Act will be checked against the SSS-10 registrant file. If the individual has registered, the incoming communication will be destroyed and no further action will be taken. If the individual is not listed in the registrant file or cannot be identified therein where the incoming communication contains sufficient identifying information on the alleged violator to permit sending correspondence to him under the automated tracking system, the name and associated information will be added to that system and the incoming communication will be used to attempt to correspond with the alleged violator, giving him an opportunity to register. After a reasonable attempt is made to register the individual, and he neither registers nor provides documented evidence supporting exemption or where there is insufficient information to add the alleged violator to the automated tracking system, the incoming communication may be forwarded to the Department of Justice for investigation and, if applicable, return to Selective Service with sufficient information for adding to the automated tracking system or comparison with the registrant file. When computer matches of Selective Service files result in production of a list of possible non-registrants, that list may be provided to the Department of Defense and the Department of Transportation to eliminate from the list individuals not required to register. The names, dates of birth, Social Security Account Numbers, and home addresses of possible non-registrants who also have been identified as members of the Reserve components of the U.S. military services, including the U.S. Coast Guard, may be provided to the Department of Defense, including the military services, and the U.S. Coast Guard, Department of Transportation, to obtain current addresses. The names, dates of birth, Social Security Account Numbers, home addresses, and disposition data on possible non-registrants who have been identified as Federal student aid recipients by the Department of Education, may be provided to the Department of Education, after processing by Selective Service, for investigation and, if applicable, forwarding to the Department of Justice for prosecution. The list may also be provided to the Internal Revenue Service to obtain current addresses of suspected non-registrants. After processing the information pertaining to suspected non-registrants will be forwarded to the Department of Justice for investigation and, if applicable, prosecution.

Where Selective Service determines that information as originally submitted appears to have contained a discrepancy, the names, dates of birth, Social Security Account Numbers, and home addresses of individuals may be returned to the original sources together with information concerning the discrepancy. Information concerning the discrepancy may include correspondence from the individual concerned.

POLICIES AND PRACTICES FOR STORING, RETRIEVING, ACCESSING RETAINING, AND DISPOSING OF RECORDS IN THE SYSTEM:

STORAGE:

Upon receipt of unsolicited communications regarding alleged violators of the Military Selective Service Act who are not listed in the SSS registrant file, a computer record will be created. This is an automated tracking system which contains the nature of the alleged violator, his Social Security Account Number if available, the date sent to the Department of Justice, the final disposition when received and the case control number. The document is microfilmed, and can be retrieved by a Document Locator Number recorded in the computer record. The original document is destroyed.

When computer matches between Selective Service and other files produce lists of possible non-registrants, the computer file will be produced and maintained. As the list is processed the paper file will be produced from the microfilm records, containing correspondence between possible non-registrants and Selective Service. A computerized tracking file of cases will be maintained.

RETRIEVABILITY:

Indexed by Selective Service Number, Social Security Account Number, name and case number (if any).

SAFEGUARDS:

a. Records are available to authorized Selective Service personnel only.

b. Paper records are converted to microfilm. A microfilm copy is kept in a locked file cabinet accessible only to authorized personnel. The microfilm original is transferred to a Federal Records Center. The paper records are destroyed after microfilming.

c. Building is secured and patrolled after normal business hours. Access is controlled by an electronic security access system.

d. Computer files will be maintained at the Joint Computer Center at Great Lakes, Illinois.

(1) Security guards for the building will allow access to authorized personnel only.

(2) Computer room will be secured with cipher locks.

(3) Terminal access to the computer system will be restricted to those with valid user ID and password.

(4) A Customer Information Control system will require additional password for interactive access to data base information.

(5) A software security package will protect access to data in the system.

(6) Access to the violator section of the data base will not be possible without specific authorization by the Data Base Administrator.

RETENTION AND DISPOSAL:

Upon receipt of unsolicited information regarding an alleged violation of the Military Selective Service Act, SSS will check the registrant file for the individual's name. If the individual has registered, the incoming correspondence will be destroyed and no record will be made or retained by SSS. If the individual is not listed in the registrant file, the individual will be entered into the automated tracking system, and the incoming correspondence will be used to attempt to correspond with the alleged violator, giving him an opportunity to register. After a reasonable attempt is made to register the individual, and he neither registers nor provides documented evidence supporting exemption, the communication may be sent to the Department of Justice. SSS will not retain copies of the incoming correspondence or any record identifying the source of the unsolicited information regarding an alleged violation. When the computer matches identify persons as possible non-registrants, processing may result in the production of a paper file of correspondence and/or other information. SSS will not retain paper copies of this information when cases are referred to the Department of Justice, but will retain microfilm copies. Once the Department of Justice has disposed of the case, as it deems appropriate, the Department of Justice will notify SSS, and the individual's name and related data will be deleted from the tracking system list of possible non-registrants.

All paper forms and correspondence will be destroyed by maceration, shredding or burning after the appropriate information has been recorded. Computer printouts distributed to SSS National Headquarters are destroyed when they have served their temporary purpose by maceration, shredding or burning.

SYSTEM MANAGER(S) AND ADDRESS:

Director of Selective Service, 1515 Wilson Boulevard, Arlington, VA 22209-2425.

RECORD ACCESS PROCEDURES:

If information in the system is desired, write to: Director of Selective Service, Selective Service System, 1515 Wilson Boulevard, Arlington, VA 22209-2425, Attn: Records Manager and furnish the following information in order to identify the individual whose records are requested:

a. Full name.

b. Date of birth.

c. Selective Service Number or Social Security Account Number.

d. Mailing address to which the reply should be mailed.

CONTESTING RECORD PROCEDURES:

See Record Access Procedures, above.

RECORD SOURCE CATEGORIES:

The information in the system of records regarding alleged violators of the Military Selective Service Act is received via correspondence, telephone calls and computer matches of list of potential registrants.

SYSTEMS EXEMPTED FOR CERTAIN PROVISIONS OF THE ACT:

Pursuant to 5 U.S.C. 552a(k)(2) and 32 CFR 1665.6, the Selective Service System will not reveal to the suspected violator the informant's name or other identifying information relating to the informant.

SSS-9

System name:

Master Pay Record—SSS.

Security classification:

None.

System location:

Data Management Center/Joint Computer Center, Great Lakes, Illinois 60088.

Categories of individuals covered by the system:

Currently assigned civilian employees and former civilian employees who have separated during the current year and first prior calendar year.

Categories of records in the system:

Contains payroll information such as name, grade, annual salary, hourly rate, address, Social Security Account Number, birth date, date of hire, service computation date, annual leave category, life insurance and health benefits deductions, savings bond data and other information relating to the status of the employee.

Authority for maintenance of the system:

Section 10(b)(2) of the Military Selective Service Act (50 U.S.C. App. 460(b)(2) and Title 5, U.S.C.

ROUTINE USES OF RECORDS MAINTAINED IN THE SYSTEM, INCLUDING CATEGORIES OF USERS AND THE PURPOSES OF SUCH USES:

Selected information by name and Social Security Account Number is furnished the Internal Revenue Service and State and City taxing authorities.

Selected information by name, date of birth, Social Security Account Number is furnished the Office of Personnel Management for retirement, life insurance and health benefit accounts.

Department of Health and Human Services—for locations of parents pursuant to the Child Support Enforcement Act (42 U.S.C. 651 et seq.)

DISCLOSURES TO CONSUMER REPORTING AGENCIES:

Disclosures may be made from this system to “consumer reporting agencies” as defined in the Fair Credit Report Act (15 U.S.C. 1681a(f)) or the Federal Claims Collection Act of 1966 (31 U.S.C. 3701(a)(3)).

POLICIES AND PRACTICES FOR STORING, RETRIEVING, ACCESSING RETAINING, AND DISPOSING OF RECORDS IN THE SYSTEM:

STORAGE:

Records are maintained in binders, on microfiche and magnetic tape.

RETRIEVABILITY:

Records are indexed by Social Security Account Number.

SAFEGUARDS:

The records are maintained in lockable file cabinets.

Measures that have been taken to prevent unauthorized disclosures of records are:

a. Use of the records or any information contained therein is limited to employees whose official duties require such access.

b. Records maintained by authorized personnel only, who have been trained in the rules and regulations concerning disclosures of information; offices are locked when authorized personnel are not on duty.

c. Periodic security checks and other emergency planning.

d. Records transferred for storage are boxed and taped; records in transit for temporary custody of another office are sealed. Records eligible for destruction are destroyed by maceration, shredding or burning.

RETENTION AND DISPOSAL:

The information on the magnetic tapes will be retained for two (2) years, then erased. The microfiche copies will be retained for one (1) year, then destroyed by burning. The computer printouts are retained until updated, then destroyed by shredding.

SYSTEM MANAGER(S) AND ADDRESS:

Director of Selective Service, 1515 Wilson Boulevard, Arlington, VA 22209-2425, Attn: Records Manager.

RECORD ACCESS PROCEDURES:

Current employees or former employees who wish to gain access to their records should make their request in writing, including their full name, address and Social Security Account Number and duty station. Former employees should indicate last duty station with this agency. Inquiries should be mailed to: Director of Selective Service, Selective Service System, 1515 Wilson Boulevard, Arlington, VA 22209-2425, Attn: Civilian Personnel.

CONTESTING RECORD PROCEDURES:

See Record Access Procedures, above.

RECORD SOURCE CATEGORIES:

Information in the system is obtained from the individual to whom it applies or is derived from information the individual supplied, or is provided by the agency official with authority to appoint the individual.

SYSTEMS EXEMPTED FOR CERTAIN PROVISIONS OF THE ACT:

None.

SSS-10

System name:

Registrant Registration Records—SSS.

Security classification:

None.

System location:

Data Management Center/Joint Computer Center, Great Lakes, Illinois, 60088.

Categories of individuals covered by the system:

Registrants of the Selective Service System after 1979.

Categories of records in the system:

Individual Registration Records:

a. Registration Form.

b. Computer tape and microfilm copies containing information provided by the registrant on Registration Form.

Authority for maintenance of the system:

Section 3, 10(b)(3) and 15(b) of the Military Selective Service Act (50 U.S.C. App. 453, 460(b)(3)).

ROUTINE USES OF RECORDS MAINTAINED IN THE SYSTEM, INCLUDING CATEGORIES OF USERS AND THE PURPOSES OF SUCH USES:

Department of Defense—for exchange of information concerning registration classification, enlistment, examination and induction of individuals and identification of individuals, availability of Standby Reserves and identification of prospects for recruiting.

Department of Justice—for review and processing of suspected violations of the Military Selective Service Act, or for perjury, and for defense of a civil action arising from administrative processing under such Act.

Federal Bureau of Investigation—for location of an individual when suspected of violation of the Military Selective Service Act.

Immigration and Naturalization Service—to provide information for use in determining an individual's eligibility for re-entry into the United States.

Department of State—for determination of an alien's eligibility for possible entry into the United States and United States citizenship.

Office of Veterans' Re-employment Rights, United States Department of Labor—to assist veterans in need of information concerning re-employment rights.

Department of Health and Human Services—for locations of parents pursuant to the Child Support Enforcement Act (42 U.S.C. 651 et seq.) And for determining the individual's proper Social Security Account Number when there appears to be a discrepancy.

Bureau of the Census—for the purposes of planning or carrying out a census or survey or related activity pursuant to the provisions of Title 13.

State and local government agencies—to provide information which may constitute evidence of a violation of State or local law, for law enforcement purposes.

Alternative service employers—for exchange of information with employers regarding a registrant who is a conscientious objector for the purpose of placement in and supervision of performance of alternative service in lieu of induction into the military service.

General Public—Registrant's Name, Selective Service Number, Date of Birth and Classification.

POLICIES AND PRACTICES FOR STORING, RETRIEVING, ACCESSING RETAINING, AND DISPOSING OF RECORDS IN THE SYSTEM:

STORAGE:

Records are maintained on microfilm and in the computer system. Microfilm records are indexed by Document Locator Number, which is stored in the computer record.

RETRIEVABILITY:

The system is indexed by Selective Service Number, but records can be located by searching for specific demographic data.

SAFEGUARDS:

Measures that have been taken to prevent unauthorized disclosures of records are:

a. Records are maintained by authorized personnel only, who have been trained in the rules and regulations concerning disclosures of information; offices are locked when authorized personnel are not on duty, and are protected by an electronic security access system at all times.

b. Periodic security checks and other emergency planning.

c. Microfilm records transferred to a Federal Records Center for storage are boxed and taped; records in transit for temporary custody of another office are sealed.

d. On-line access to RIB from terminals is controlled by User Identification and password. Batch access controlled via standard data processing software and hardware techniques.

Records eligible for destruction are destroyed by maceration, shredding or burning.

RETENTION AND DISPOSAL:

Individual Processing Records:

1. Registration Form—Destroyed by maceration when its information has been transferred onto microfilm and into the computer system. Original microfilm is stored at a Federal Records Center. A microfilm copy is retained at the Data Management Center, in locked steel cabinets. The copies are retained until no longer needed for reference purposes.

2. The record copy of microfilm and computer tape will be retained until the registrant reaches 85 years of age.

SYSTEM MANAGER(S) AND ADDRESS:

Director of Selective Service, 1515 Wilson Boulevard, Arlington, VA 22209-2425, Attn: Records Manager.

RECORD ACCESS PROCEDURES:

The agency office address to which inquiries should be addressed and the location at which an individual may present a request as to whether the Registrant Registration Records System (after 1979) contains records pertaining to himself is: Director of Selective Service, Selective Service System, 1515 Wilson Boulevard, Arlington, VA 22209-2425, Attn: Records Manager.

It is necessary to furnish the following information in order to identify the individual whose records are requested:

a. Full name of the individual.

b. Selective Service Number or Social Security Account Number, date of birth and address at the time of registration if Selective Service Number is not known.

d. Mailing address to which the reply should be mailed.

CONTESTING RECORD PROCEDURES:

See Record Access Procedures, above.

RECORD SOURCE CATEGORIES:

Information contained in the Registrant Registration Records System is obtained from the individual.

SYSTEMS EXEMPTED FOR CERTAIN PROVISIONS OF THE ACT:

None.

FOR FURTHER INFORMATION CONTACT: Rudy Sanchez, Office of the General Counsel, Selective Service System, 1515 Wilson Boulevard, Arlington, Virginia 22209-2425.

Gil Coronado,
Director.

[FR Doc. 00-24220 Filed 9-20-00; 8:45 am]

BILLING CODE 8015-01-P